DEPARTMENT OF EDUCATION

Equity and Excellence Commission

AGENCY: Office for Civil Rights, Department of Education.

ACTION: Notice of an Open Meeting.

SUMMARY: This notice sets forth the schedule and proposed agenda of an upcoming meeting of the Equity and Excellence Commission (Commission). The notice also describes the functions of the Commission. Notice of this meeting is required by section 10(a)(2) of the Federal Advisory Committee Act (FACA) and is intended to notify the public of their opportunity to attend.

DATES: February 22, 2011.

Time: 10 a.m. to 5 p.m.

ADDRESSES: The Commission will meet in Washington, DC at 400 Maryland Avenue, SE., Washington, DC 20202, in the Barnard Auditorium.

FOR FURTHER INFORMATION CONTACT: Stephen Chen, Designated Federal Official, Equity and Excellence Commission, U.S. Department of Education, 400 Maryland Avenue, SE., Washington, DC 20202. E-mail: Stephen.Chen@ed.gov. Telephone: (202) 453-6624.

SUPPLEMENTARY INFORMATION: The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commissions' first meeting will include a welcome by Department officials followed by a roundtable discussion focusing on the strategies for accomplishing its mission as stated in its charter. The agenda will also include a presentation on school resource equity and the development of a work plan for the Commission. Due to time constraints, there will not be a public comment period at this meeting, but individuals wishing to comment may contact Stephen Chen via e-mail at stephen.chen@ed.gov.

Individuals interested in attending the meeting must register in advance because seating may be limited. Please contact Stephen Chen at (202) 453-6624 or by e-mail at stephen.chen@ed.gov mailto:tracy.harris@ed.gov. Individuals who will need accommodations for a disability in order to attend the meeting (e.g., interpreting services, assistive listening devices, or materials in alternative format) should notify Stephen Chen at (202) 453-6624 no later than February 14, 2011. We will attempt to meet requests for accommodations after this date but cannot guarantee their availability. The meeting site is accessible to individuals with disabilities.

Records are kept of all Commission proceedings and are available for public inspection at the Department of Education, 400 Maryland Avenue, SE., Washington, DC 20202 from the hours of 9 a.m. to 5 p.m. E.S.T.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-866-512-1830; or in the Washington, DC, area at (202) 512-1800.

Note: The official version of this document is the document published in the Federal Register. Free Internet access to the official edition of the Federal Register and the Code of Federal Regulations is available on GPO Access at:

Russlynn Ali,
Assistant Secretary, Office for Civil Rights.

[FR Doc. 2011-2768 Filed 2-7-11; 8:45 am]

BILLING CODE 4000-01-P